DEPARTMENT OF ENERGY

Federal Energy Regulatory Commission

[Docket No. CP04-16-000]

Transcontinental Gas Pipe Line Corporation; Notice of Application

November 21, 2003.

Take notice that on November 12, 2003, Transcontinental Gas Pipe Line Corporation (Transco), filed in Docket No. CP04-16-000, an application, in abbreviated form, pursuant to section 7(b) of the Natural Gas Act, as amended, and part 157 of the Rules and Regulations of the Federal Energy Regulatory Commission (Commission), for an order permitting and approving abandonment of certain firm sales service provided to Southwestern Virginia Natural Gas Company (SVGC) under Transco's Rate Schedule FS, as more fully set forth in the application which is on file with the Commission and open to public inspection.

Transco states that it entered into a firm sales agreement with SVGC on August 1, 1991, under which Transco sells gas to SVGC under Rate Schedule FS (FS Agreement).

Transco states that the Primary Term of the FS Agreement ended on March 31, 2001. Transco notes that by letter dated March 25, 2003, it provided SVGC with a two-year notice to terminate the subject FS Agreement as of April 1, 2005. Transco explains that, by letter agreement dated October 31, 2003, Transco and SVGC agreed to pursue accelerated abandonment of the FS Agreement with such accelerated abandonment to be effective April 1, 2004.

Transco further states that it is prepared to seek accelerated abandonment of any Rate Schedule FS services it provides to a similarly situated customer that requests such an accelerated abandonment.

Any person desiring to be heard or to protest said filing should file a motion to intervene or a protest with the Federal Energy Regulatory Commission, 888 First Street, NE., Washington, DC 20426, in accordance with § 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Comment Date: December 8, 2003.

Magalie R. Salas,
Secretary.

[FR Doc. E3-00401 Filed 11-28-03; 8:45 am]

BILLING CODE 6717-01-P